FEDERAL COMMUNICATIONS COMMISSION

47 CFR Part 73

[DA 10-786; MB Docket No. 05-10; RM-11279]

FM Table of Allotments (The Dalles, Tualatin, Eugene, Albany, Lebanon, Paisley, and Diamond Lake, Oregon and Goldendale, WA)

AGENCY: Federal Communications Commission

ACTION: Final rule; dismissal of petition for reconsideration.

SUMMARY: The Audio Division dismisses a Petition for Reconsideration jointly filed by Portland Broadcasting, LLC (“Portland Broadcasting”), licensee of Station KXPC-FM, Channel 279C, Lebanon, Oregon, Bicoastal Media Licenses IV, LLC (“Bicoastal”), licensee of Station KACI-FM, Channel 249C2, The Dalles, Oregon, and Station KMSW(FM), Channel 224C3, The Dalles, Oregon, and Extra Mile Media, Inc., licensee of Station KHPE(FM), Channel 300C, Albany, Oregon, collectively (the “Joint Petitioners”). In this regard, Portland Broadcasting, Columbia Gorge Broadcasters, Inc., M.S.W Communications, LLC, Bicoastal, and Extra Media, Inc. (the “Joint Parties”) filed a Motion to Dismiss the Petition for Reconsideration. The Joint Parties' Motion to Dismiss the Petition for Reconsideration contained a Settlement Agreement between Cumulus and the Joint Parties. In accordance with Section 1.420(j) of the Commission's Rules, we are granting the Joint Parties' Motion to Dismiss. In doing so, we approve the Settlement Agreement. The Joint Parties will collectively and individually receive payments that are less than their respective legitimate and prudent expenses incurred in connection with the preparation, filing and advocacy of the Counterproposal. Each party filed a declaration in accordance with Section 1.420(j), containing an itemization of its respective legal, engineering and other legitimate and prudent expenses. The Joint Parties and Cumulus each state in its respective declaration that aside from the Settlement Agreement, neither respective licensee nor any of its members, officers, or employees is a party to any agreement, written or oral, that will require the respective licensee to pay or receive any monies or provide or receive any other consideration from or to the existing and former licensee for the actions described in each respective declaration.

ADDRESSES: Federal Communications Commission, 445 12th Street, SW., Washington, DC 20554.

FOR FURTHER INFORMATION CONTACT: Rolanda F. Smith, Media Bureau, (202) 418-2180.

SUPPLEMENTARY INFORMATION: This is a summary of the Commission's Memorandum Opinion and Order, MB Docket No. 05-10, adopted May 21, 2010, and released May 24, 2010. The full text of this Commission document is available for inspection and copying during normal business hours in the FCC Reference Information Center (Room CY-A257), 445 12th Street, SW., Washington, DC.

The complete text of this decision may also be purchased from the Commission's copy contractor, Best Copy and Printing, Inc., 445 12th Street, SW, Room CY-B402, Washington, DC 20554, 800-378-3160 or via the company's website, <http://www.bcpiweb.com>.

The Commission will not send a copy of this Memorandum Opinion and Order pursuant to the Congressional Review Act, see 5 U.S.C. 801(a)(1)(A), because the aforementioned petition for reconsideration was dismissed.

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

List of Subjects in 47 CFR Part 73

Federal Communications Commission.
John A. Karousos,
Assistant Chief,
Audio Division,
Media Bureau.

[FR Doc. 2010-14512 Filed 6-15-10- 8:45 am]

BILLING CODE 6712-01-S